DEPARTMENT OF TRANSPORTATION

Surface Transportation Board

[STB Finance Docket No. 34335]

Keokuk Junction Railway Company—Feeder Line Acquisition—Line of Toledo Peoria and Western Railway Corporation Between La Harpe and Hollis, IL

AGENCY: Surface Transportation Board.

ACTION: Notice of acceptance of feeder line application and institution of proceeding.

SUMMARY: Subject to compliance with the requirements of 49 CFR 1105.7 (environmental report), the Surface Transportation Board (Board) is accepting for filing an application submitted by Keokuk Junction Railway Company (KJRY). KJRY seeks to acquire, from Toledo, Peoria and Western Railway Corporation (TP&W), a 76-mile rail line between milepost 194.5 near La Harpe and milepost 118.5 at Hollis, IL (La Harpe-Hollis Line), and the Mapleton Industrial Spur and Wye Facilities (Mapleton Spur), a 2.5-mile line connected to the La Harpe-Hollis Line at milepost 121.5 at or near Kolbe, IL. Alternatively, KJRY seeks to acquire only the La Harpe-Hollis Line. The application was filed under the Feeder Railroad Development Program, 49 U.S.C. 10907 and 49 CFR Part 1151.

DATES: Competing applications must be filed by August 14, 2003; verified statements and comments addressing the initial and/or any competing applications must be filed by September 15, 2003; and verified replies by applicants and other interested parties must be filed by October 6, 2003. The Board will issue a decision on the merits after consideration of any competing applications, verified statements, comments, and verified replies that are submitted.

ADDRESSES: Send an original and 10 copies of any competing applications, verified statements, comments, and verified replies referring to STB Finance Docket No. 34335 to: Surface Transportation Board, 1925 K Street, NW., Washington, DC 20423-0001. In addition, send one copy of any competing applications, verified statements, comments, and verified replies to (1) applicants' representatives: William A. Mullins and David C. Reeves, 401 Ninth Street, NW., Washington, DC 20004-2134; and (2) TP&W's representatives: Gary A. Laakso, 5300 Broken Sound Boulevard NW., Boca Raton, FL 33487 and Louis E. Gitomer, 1455 F Street, NW., Washington, DC 20005.

FOR FURTHER INFORMATION CONTACT: Joseph H. Dettmar, (202) 565-1600. [Federal Information Relay Service (FIRS) for the hearing impaired: 1-800-877-8339.]

SUPPLEMENTARY INFORMATION: Under 49 U.S.C. 10907(b)(1), the Board is authorized to require the sale of a rail line to a financially responsible person if the public convenience and necessity permit or require the sale. KJRY contends that the proposed sale is required under the public convenience and necessity criteria, 49 U.S.C. 10907(c)(1)(A)-(E), and that it is a financially responsible person willing to pay not less than the constitutional minimum value of both the La Harpe-Hollis Line and Mapleton Spur or only the La Harpe-Hollis Line.

KJRY filed a feeder line application April 9, 2003, and a supplement to that application on June 9, 2003, offering to purchase the La Harpe-Hollis Line and Mapleton Spur for an estimated going concern value of $3,461,434. Alternatively, KJRY offers to purchase only the 76-mile La Harpe-Hollis Line for an estimated net liquidation value of $3,284,605. Under the latter offer, TP&W would retain exclusive access to, and all the revenues from, the Mapleton Spur and would receive without charge trackage rights over KJRY between Hollis and the Mapleton Spur.

Subject to KJRY's compliance with the requirements of 49 CFR 1105.7, KJRY has submitted sufficient information to meet the requirements of 49 CFR 1151.3. The Board will rule on the merits of the application as amended when the record is complete.

Copies of the application and supplement may be obtained free of charge by contacting applicant's representatives. Alternatively, the application and supplement may be inspected at the offices of the Surface Transportation Board, Room 755, during normal business hours, or a copy of the application and supplemental filing may be obtained from the Board's Web site at HTTP://WWW.STB.DOT.GOV.

Copies of the Board's decision may be purchased from Da-2-Da Legal Copy Service by calling 202-293-7776 (assistance for the hearing impaired is available through FIRS at 1-800-877-8339) or visiting Suite 405, 1925 K Street, NW., Washington, DC 20006.

This action will not significantly affect either the quality of the human environment or the conservation of energy resources.

Decided: July 1, 2003.
By the Board, Joseph H. Dettmar, Acting Director, Office of Proceedings.
Vernon A. Williams,
Secretary.

[FR Doc. 03-17840 Filed 7-14-03; 8:45 am]

BILLING CODE 4915-00-P